FEDERAL HOUSING FINANCE BOARD

[2005-N-10]

Federal Home Loan Bank Members Selected for Community Support Review

AGENCY: Federal Housing Finance Board.

ACTION: Notice.

SUMMARY: The Federal Housing Finance Board (Finance Board) is announcing the Federal Home Loan Bank (Bank) members it has selected for the 2004-05 eighth quarter review cycle under the Finance Board's community support requirements regulation. This notice also prescribes the deadline by which Bank members selected for review must submit Community Support Statements to the Finance Board.

DATES: Bank members selected for the review cycle under the Finance Board's community support requirements regulation must submit completed Community Support Statements to the Finance Board on or before February 27, 2006.

ADDRESSES: Bank members selected for the 2004-05 eighth quarter review cycle under the Finance Board's community support requirements regulation must submit completed Community Support Statements to the Finance Board either by regular mail at the Federal Housing Finance Board, Office of Supervision, Community Investment and Affordable Housing, 1625 Eye Street, NW., Washington, DC 20006, or by electronic mail at Fitzgeralde@fhfb.gov.

FOR FURTHER INFORMATION CONTACT: Emma J. Fitzgerald, Program Analyst, Office of Supervision, Community Investment and Affordable Housing, by telephone at 202-408-2874, by electronic mail at Fitzgeralde@fhfb.gov, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the February 27, 2006 deadline prescribed in this notice. 12 CFR 944.2(b)(1)(ii) and (c). On or before January 27, 2006, each Bank will notify the members in its district that have been selected for the 2004-05 eighth quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2004-05 eighth quarter community support review cycle:

Federal Home Loan Bank of Boston—District 1
Savings Bank of Danbury | Danbury | Connecticut.
American Eagle Federal Credit Union | East Hartford | Connecticut.
VantisLife Insurance Company | East Hartford | Connecticut.
The Dime Savings Bank of Norwich | Norwich | Connecticut.
Stafford Savings Bank | Stafford Springs | Connecticut.
Sikorsky Financial Credit Union | Stratford | Connecticut.
Torrington Savings Bank | Torrington | Connecticut.
Constitution State Corporate Credit Union, Inc | Wallingford | Connecticut.
Webster Bank | Waterbury | Connecticut.
Maine State Credit Union | Augusta | Maine.
Biddeford Savings Bank | Biddeford | Maine.
Atlantic Regional Federal Credit Union | Brunswick | Maine.
Ste. Croix Regional Federal Credit Union | Lewiston | Maine.
Rainbow Federal Credit Union | Lewiston | Maine.
Evergreen Credit Union | Westbrook | Maine.
The Provident Bank | Amesbury | Massachusetts.
Athol-Clinton Co-operative Bank | Athol | Massachusetts.
The Village Bank | Auburndale | Massachusetts.
Citizens Bank of Massachusetts | Boston | Massachusetts.
Brookline Municipal Credit Union | Brookline | Massachusetts.
Metropolitan Credit Union | Chelsea | Massachusetts.
Pilgrim Co-operative Bank | Cohasset | Massachusetts.
Postal Community Credit Union | East Boston | Massachusetts.
Everett Co-operative Bank | Everett | Massachusetts.
St. Anne's Credit Union of Fall River, Mass | Fall River | Massachusetts.
I. C. Federal Credit Union | Fitchburg | Massachusetts.
Holyoke Credit Union | Holyoke | Massachusetts.
Jeanne D'Arc Credit Union | Lowell | Massachusetts.
Bank Malden | Malden | Massachusetts.
St. Mary's Credit Union | Marlborough | Massachusetts.
Medway Co-operative Bank | Medway | Massachusetts.
Merrimac Savings Bank | Merrimac | Massachusetts.
Millbury National Bank | Millbury | Massachusetts.
Greylock Federal Credit Union | Pittsfield | Massachusetts.
Legacy Banks | Pittsfield | Massachusetts.
Bridgewater Savings Bank | Raynham | Massachusetts.
Winter Hill Bank | Somerville | Massachusetts.
Member Plus Credit Union | Somerville | Massachusetts.
Mt. Washington Co-operative Bank | South Boston | Massachusetts.
MBTA Employees Credit Union | South Boston | Massachusetts.
Wakefield Co-operative Bank | Wakefield | Massachusetts.
Webster Five Cents Savings Bank | Webster | Massachusetts.
Mutual Federal Savings Bank of Plymouth County | Whitman | Massachusetts.
Winchester Savings Bank | Winchester | Massachusetts.
Ledyard National Bank | Hanover | New Hampshire.
Monadnock Community Bank | Peterborough | New Hampshire.
Northeast Credit Union | Portsmouth | New Hampshire.
Woodsville Guaranty Savings Bank | Woodsville | New Hampshire.
Coastway Credit Union | Cranston | Rhode Island.
People's Credit Union | Middleton | Rhode Island.
Pawtucket Credit Union | Pawtucket | Rhode Island.
Opportunities Credit Union | Burlington | Vermont.
Community National Bank | Derby | Vermont.
First National Bank of Orwell | Orwell | Vermont.
Wells River Savings Bank | Wells River | Vermont.
Federal Home Loan Bank of New York—District 2
Summit Federal Savings & Loan Association | Dunellen | New Jersey.
Sterling Bank | Mount Laurel | New Jersey.
Roselle Savings Bank | Roselle | New Jersey.
Greater Community Bank | Totowa | New Jersey.
Sun National Bank | Vineland | New Jersey.
Valley National Bank | Wayne | New Jersey.
Marathon National Bank of New York | Astoria | New York.
Seneca Federal Savings and Loan Association | Baldwinsville | New York.
Ballston Spa National Bank | Ballston Spa | New York.
New York National Bank | Bronx | New York.
The Dime Savings Bank of Williamsburgh | Brooklyn | New York.
Community Bank, National Association | Canton | New York.
North Country Savings Bank | Canton | New York.
Carthage Federal Savings and Loan Association | Carthage | New York.
Lake Shore Savings & Loan Association | Dunkirk | New York.
City National Bank & Trust Company | Gloversville | New York.
North Fork Bank | Melville | New York.
Interaudi Bank | New York | New York.
Ridgewood Savings Bank | New York | New York.
Alliance Bank, NA | Oneida | New York.
The Seneca Falls Savings Bank | Seneca Falls | New York.
Sleepy Hollow Bank | Sleepy Hollow | New York.
Geddes Federal Savings and Loan | Syracuse | New York.
The National Bank of Delaware County | Walton | New York.
Sound Federal Savings | White Plains | New York.
RG Premier Bank of Puerto Rico | Hato Rey | Puerto Rico.
EuroBank | San Juan | Puerto Rico.
Federal Home Loan Bank of Pittsburgh—District 3
Chase Manhattan Bank USA, N.A | Newark | Delaware.
Allegiance Bank of North America | Bala Cynwyd | Pennsylvania.
First National Bank of Berwick | Berwick | Pennsylvania.
American Eagle Savings Bank | Boothwyn | Pennsylvania.
Commerce Bank/Harrisburg, N.A | Camp Hill | Pennsylvania.
Croydon Savings Bank | Croydon | Pennsylvania.
FNB Bank, N.A | Danville | Pennsylvania.
Marquette Savings Bank | Erie | Pennsylvania.
First United National Bank | Fryburg | Pennsylvania.
Adams County National Bank | Gettysburg | Pennsylvania.
The First National Bank of Greencastle | Greencastle | Pennsylvania.
Huntingdon Savings Bank | Huntingdon | Pennsylvania.
Huntingdon Valley Bank | Huntingdon Valley | Pennsylvania.
First Commonwealth Bank | Indiana | Pennsylvania.
Abington Bank | Jenkintown | Pennsylvania.
The Merchants National Bank of Kittanning | Kittanning | Pennsylvania.
Fulton Bank | Lancaster | Pennsylvania.
Bank of Lancaster County, N.A | Lancaster | Pennsylvania.
The First National Bank of Lilly | Lilly | Pennsylvania.
The Citizens National Bank | Meyersdale | Pennsylvania.
Milton Savings Bank | Milton | Pennsylvania.
The First National Bank of Newport | Newport | Pennsylvania.
The Northumberland National Bank | Northumberland | Pennsylvania.
First National Bank of Palmerton | Palmerton | Pennsylvania.
United Savings Bank | Philadelphia | Pennsylvania.
Tioga Franklin Savings Bank | Philadelphia | Pennsylvania.
Fidelity Bank PaSb | Pittsburgh | Pennsylvania.
Landmark Community Bank | Pittston | Pennsylvania.
Wilmington Trust of Pennsylvania | Villanova | Pennsylvania.
West Milton State Bank | West Milton | Pennsylvania.
Citizens National Bank of Berkeley Springs | Berkeley Springs | West Virginia.
Bank of Charles Town | Charles Town | West Virginia.
Davis Trust Company | Elkins | West Virginia.
Guaranty Bank & Trust Company | Huntington | West Virginia.
Summit Community Bank | Moorefield | West Virginia.
Capon Valley Bank | Wardensville | West Virginia.
First National Bank in West Union | West Union | West Virginia.
The Citizens Bank of Weston, Inc | Weston | West Virginia.
Federal Home Loan Bank of Atlanta—District 4
First National Bank of Central Alabama | Aliceville | Alabama.
The First National Bank of Atmore | Atmore | Alabama.
The Bank | Birmingham | Alabama.
Regions Bank | Birmingham | Alabama.
Alabama Central Credit Union | Birmingham | Alabama.
Farmers and Merchants Bank | Centre | Alabama.
Merchants & Farmers Bank of Greene County | Eutaw | Alabama.
First Lowndes Bank | Fort Deposit | Alabama.
First Metro Bank | Muscle Shoals | Alabama.
Farmers and Merchants Bank | Piedmont | Alabama.
West Alabama Bank & Trust | Reform | Alabama.
Bank Independent | Sheffield | Alabama.
First Southern National Bank | Stevenson | Alabama.
Turnberry Bank | Aventura | Florida.
Horizon Bank | Bradenton | Florida.
Coast Bank of Florida | Bradenton | Florida.
Riverside Bank of the Gulf Coast | Cape Coral | Florida.
Gulf State Community Bank | Carrabelle | Florida.
BAC Florida Bank | Coral Gables | Florida.
EuroBank | Coral Gables | Florida.
Englewood Bank | Englewood | Florida.
First Community Bank of Southwest Florida | Fort Myers | Florida.
Beach Community Bank | Fort Walton Beach | Florida.
First Bank of Indiantown | Indiantown | Florida.
Jacksonville Firemen's Credit Union | Jacksonville | Florida.
The Jacksonville Bank | Jacksonville | Florida.
Heritage Bank of Florida | Lutz | Florida.
Executive National Bank | Miami | Florida.
Sunshine State FS&L Association | Plant City | Florida.
Pilot Bank | Tampa | Florida.
Palm Beach County Bank | West Palm Beach | Florida.
Enterprise Banking Company | Abbeville | Georgia.
Wheeler County State Bank | Alamo | Georgia.
First National Bank of South Georgia, N.A | Albany | Georgia.
Sumter Bank & Trust Company | Americus | Georgia.
Community National Bank | Ashburn | Georgia.
Colony Bank Ashburn | Ashburn | Georgia.
The National Bank of Georgia | Athens | Georgia.
Capitol City Bank & Trust Company | Atlanta | Georgia.
Atlantic National Bank | Brunswick | Georgia.
Peoples Bank & Trust | Buford | Georgia.
United National Bank | Cairo | Georgia.
Bartow County Bank | Cartersville | Georgia.
PeoplesSouth Bank | Colquitt | Georgia.
Columbus Bank and Trust Company | Columbus | Georgia.
First National Bank | Covington | Georgia.
Bank of Dawson | Dawson | Georgia.
Bank of Terrell | Dawson | Georgia.
Horizon Bank | Decatur | Georgia.
Farmers State Bank | Dublin | Georgia.
Heritage Bank | Jonesboro | Georgia.
First Capital Bank | Norcross | Georgia.
Waycross Bank & Trust | Waycross | Georgia.
UnitedBank | Zebulon | Georgia.
The Harbor Bank of Maryland | Baltimore | Maryland.
Mercantile Eastern Shore Bank | Chestertown | Maryland.
County First Bank | La Plata | Maryland.
Bank of Ocean City | Ocean City | Maryland.
Farmers and Merchants Bank | Upperco | Maryland.
Old Line Bank | Waldorf | Maryland.
Westminster Union Bank | Westminster | Maryland.
Bank of America Georgia, NA | Charlotte | North Carolina.
New Century Bank | Dunn | North Carolina.
Four Oaks Bank & Trust Company | Four Oaks | North Carolina.
Alamance Bank | Graham | North Carolina.
Sterling South Bank & Trust Company | Greensboro | North Carolina.
BB & T of SC | Lumberton | North Carolina.
Bank of the Carolinas | Mocksville | North Carolina.
Citizens South Bank | Gastonia | North Carolina.
The Bank of Currituck | Moyock | North Carolina.
First-Citizens Bank & Trust Company | Raleigh | North Carolina.
Roanoke Rapids Savings Bank, SSB | Roanoke Rapids | North Carolina.
KS Bank, Incorporated | Smithfield | North Carolina.
Jackson Savings Bank, S.S.B | Sylva | North Carolina.
Tarboro Savings Bank, SSB | Tarboro | North Carolina.
Security Federal Bank | Aiken | South Carolina.
Bank of Anderson | Anderson | South Carolina.
Lowcountry National Bank | Beaufort | South Carolina.
CapitalBank | Greenwood | South Carolina.
Palmetto State Bank | Hampton | South Carolina.
Beach First National Bank | Myrtle Beach | South Carolina.
First National Bank of the South | Spartanburg | South Carolina.
The First Bank and Trust Company | Abingdon | Virginia.
Highlands Union Bank | Abingdon | Virginia.
Countrywide Bank, N.A | Alexandria | Virginia.
First National Bank of Altavista | Altavista | Virginia.
E*Trade Bank | Arlington | Virginia.
Bank of Clarke County | Berryville | Virginia.
The Bank of Floyd | Floyd | Virginia.
TruPoint Bank | Grundy | Virginia.
Rockingham Heritage Bank | Harrisonburg | Virginia.
The Bank of Marion | Marion | Virginia.
Bank of Essex | Tappahannock | Virginia.
Resource Bank | Virginia Beach | Virginia.
The Fauquier Bank | Warrenton | Virginia.
Federal Home Loan Bank of Cincinnati—District 5
Town Square Bank, Inc | Ashland | Kentucky.
Auburn Banking Company | Auburn | Kentucky.
Peoples Exchange Bank | Beattyville | Kentucky.
Appalachian Peoples Federal Credit Union | Berea | Kentucky.
Farmers State Bank | Booneville | Kentucky.
Citizens First Bank, Inc | Bowling Green | Kentucky.
American Bank & Trust Company, Inc | Bowling Green | Kentucky.
The First National Bank of Brooksville | Brooksville | Kentucky.
Brownsville Deposit Bank | Brownsville | Kentucky.
Heritage Bank, Inc | Burlington | Kentucky.
Bank of Caneyville | Caneyville | Kentucky.
Bank of Corbin, Inc | Corbin | Kentucky.
Bank of Ohio County | Dundee | Kentucky.
Elkton Bank and Trust Company | Elkton | Kentucky.
Farmers Deposit Bank | Eminence | Kentucky.
The Bank of Kentucky | Florence | Kentucky.
First Federal Savings Bank of Frankfort | Frankfort | Kentucky.
First National Bank of Northern Kentucky | Ft. Mitchell | Kentucky.
The First National Bank of Grayson | Grayson | Kentucky.
The Commercial Bank of Grayson | Grayson | Kentucky.
Ohio Valley National Bank | Henderson | Kentucky.
Hyden Citizens Bank | Hyden | Kentucky.
Citizens Guaranty Bank | Irvine | Kentucky.
Citizens Bank & Trust Company of Jackson | Jackson | Kentucky.
The First National Bank of Jackson | Jackson | Kentucky.
Peoples Bank | Lebanon | Kentucky.
Lewisburg Banking Company | Lewisburg | Kentucky.
University of Kentucky Federal Credit Union | Lexington | Kentucky.
First National Bank and Trust | London | Kentucky.
Stock Yards Bank & Trust Company | Louisville | Kentucky.
The Peoples Bank | Marion | Kentucky.
Security Bank & Trust Company | Maysville | Kentucky.
The Citizens Bank | Morehead | Kentucky.
Citizens Bank of Northern Kentucky Inc | Newport | Kentucky.
First Farmers Bank & Trust Company | Owenton | Kentucky.
The Paducah Bank & Trust Company | Paducah | Kentucky.
Kentucky Bank | Paris | Kentucky.
Salyersville National Bank | Salyersville | Kentucky.
Citizens Union Bank of Shelbyville | Shelbyville | Kentucky.
Somerset National Bank | Somerset | Kentucky.
PBK Bank, Inc | Stanford | Kentucky.
Bank of the Mountains | West Liberty | Kentucky.
Winchester Federal Savings Bank | Winchester | Kentucky.
North Akron Savings Bank | Akron | Ohio.
The Andover Bank | Andover | Ohio.
Sutton Bank | Attica | Ohio.
United Bank, N.A | Bucyrus | Ohio.
Farmers National Bank | Canfield | Ohio.
The Cincinnatus Savings & Loan Company | Cheviot | Ohio.
Foundation Bank | Cincinnati | Ohio.
The Union Bank Company | Columbus Grove | Ohio.
Heartland Federal Credit Union | Dayton | Ohio.
The State Bank and Trust Company | Defiance | Ohio.
Fremont Federal Credit Union | Fremont | Ohio.
The Ohio Valley Bank Company | Gallipolis | Ohio.
The Sycamore National Bank | Groesbeck | Ohio.
The Harrison Building and Loan Assoc | Harrison | Ohio.
Oak Hill Banks | Jackson | Ohio.
Lebanon Citizens National Bank | Lebanon | Ohio.
Buckeye Community Bank | Lorain | Ohio.
The Lorain National Bank | Lorain | Ohio.
The Ohio State Bank | Marion | Ohio.
Minster Bank | Minster | Ohio.
The Mount Victory State Bank | Mount Victory | Ohio.
First National Bank of New Bremen | New Bremen | Ohio.
Farmers State Bank | New Madison | Ohio.
Portage Community Bank | Ravenna | Ohio.
The Richwood Banking Company | Richwood | Ohio.
Sherwood State Bank | Sherwood | Ohio.
The First National Bank of Sycamore | Sycamore | Ohio.
First Bank of Ohio | Tiffin | Ohio.
Great Lakes Credit Union, Inc | Toledo | Ohio.
The Citizens National Bank of Urbana | Urbana | Ohio.
The National Bank and Trust Company | Wilmington | Ohio.
Woodsfield Savings Bank | Woodsfield | Ohio.
Century National Bank | Zanesville | Ohio.
Community B&TC of Cheatham Ctny | Ashland City | Tennessee.
Citizens Bank & Trust Company | Atwood | Tennessee.
First South Bank | Bolivar | Tennessee.
Cornerstone Community Bank | Chattanooga | Tennessee.
Southern Heritage Bank | Cleveland | Tennessee.
The Community Bank of East Tenn | Clinton | Tennessee.
First Alliance Bank | Cordova | Tennessee.
Tristar Bank | Dickson | Tennessee.
Fifth Third Bank | Franklin | Tennessee.
Tennessee Commerce Bank | Franklin | Tennessee.
Commercial Bank | Harrogate | Tennessee.
Dupont Community Credit Union | Hixon | Tennessee.
The First National Bank of LaFollette | LaFollette | Tennessee.
Bank of Perry County | Lobelville | Tennessee.
Bank of Mason | Mason | Tennessee.
McKenzie Banking Company | McKenzie | Tennessee.
Security Federal Savings Bank | McMinnville | Tennessee.
Tri-State Bank of Memphis | Memphis | Tennessee.
Financial Federal Savings Bank | Memphis | Tennessee.
First Tennessee Bank NA | Memphis | Tennessee.
Cavalry Banking | Murfreesboro | Tennessee.
Pinnacle National Bank | Nashville | Tennessee.
Community Trust & Banking Company | Ooletewah | Tennessee.
Bank of Ripley | Ripley | Tennessee.
The Citizens Bank of East Tennessee | Rogersville | Tennessee.
First Community Bank of East Tennessee | Rogersville | Tennessee.
The Hardin County Bank | Savannah | Tennessee.
Peoples State Bank of Commerce | Trenton | Tennessee.
First National Bank of Tullahoma | Tullahoma | Tennessee.
The Traders National Bank | Tullahoma | Tennessee.
First State Bank | Union City | Tennessee.
Wayne County Bank | Waynesboro | Tennessee.
Federal Home Loan Bank of Indianapolis—District 6
Central National Bank & Trust Company | Attica | Indiana.
Hoosier Hills Credit Union | Bedford | Indiana.
Bloomfield State Bank | Bloomfield | Indiana.
Indiana University Employees FCU | Bloomington | Indiana.
Wayne Bank and Trust Company | Cambridge City | Indiana.
Heritage Community Bank | Columbus | Indiana.
Chiphone Federal Credit Union | Elkhart | Indiana.
Fire Police City County Federal Credit Union | Fort Wayne | Indiana.
MidWest America Federal Credit Union | Fort Wayne | Indiana.
Alliance Bank | Francesville | Indiana.
Friendship State Bank | Friendship | Indiana.
Sand Ridge Bank | Highland | Indiana.
German American Bank | Jasper | Indiana.
Lafayette Bank & Trust | Lafayette | Indiana.
Union County National Bank | Liberty | Indiana.
Lynnville National Bank | Lynnville | Indiana.
Citizens State Bank | New Castle | Indiana.
Notre Dame Federal Credit Union | Notre Dame | Indiana.
State Bank of Oxford | Oxford | Indiana.
First Federal Savings Bank | Rochester | Indiana.
1st Source Bank | South Bend | Indiana.
First National Bank, Valparaiso | Valparaiso | Indiana.
Centre Bank | Veedersburg | Indiana.
The Merchants Bank & Trust Company | West Harrison | Indiana.
Centier Bank | Whiting | Indiana.
Chemical Bank Shoreline | Benton Harbor | Michigan.
State Bank of Caledonia | Caledonia | Michigan.
Chelsea State Bank | Chelsea | Michigan.
Century Bank and Trust | Coldwater | Michigan.
Southern Michigan Bank and Trust | Coldwater | Michigan.
First State Bank | Decatur | Michigan.
Baybank | Gladstone | Michigan.
Founders Trust Personal Bank | Grand Rapids | Michigan.
West Michigan Community Bank | Hudsonville | Michigan.
The Miners State Bank of Iron River | Iron River | Michigan.
Peninsula Bank | Ishpeming | Michigan.
Kent Commerce Bank | Kentwood | Michigan.
West Shore Bank | Ludington | Michigan.
Dart Bank | Mason | Michigan.
Citizens State Bank | New Baltimore | Michigan.
Oxford Bank | Oxford | Michigan.
The Bank of Northern Michigan | Petoskey | Michigan.
Community Plus Savings Bank | Rochester Hills | Michigan.
Independent Bank—West Michigan | Rockford | Michigan.
Old Mission Bank | Sault Saint Marie | Michigan.
FirstBank—St. Johns | St. Johns | Michigan.
Warren Bank | Warren | Michigan.
Federal Home Loan Bank of Chicago—District 7
State Bank of Augusta | Augusta | Illinois.
Benchmark Bank | Aurora | Illinois.
Old Second National Bank | Aurora | Illinois.
Tompkins State Bank | Avon | Illinois.
Beardstown Savings s.b | Beardstown | Illinois.
Citizens Bank—Illinois, National Association | Berwyn | Illinois.
Bloomingdale Bank & Trust | Bloomington | Illinois.
Great Lakes Bank, National Association | Blue Island | Illinois.
The Bank of Lawrence County | Bridgeport | Illinois.
Brimfield Bank | Brimfield | Illinois.
Marine Trust Company of Carthage | Carthage | Illinois.
Chester National Bank | Chester | Illinois.
Buena Vista National Bank | Chester | Illinois.
Lakeside Bank | Chicago | Illinois.
Pullman Bank and Trust Company | Chicago | Illinois.
Pacific Global Bank | Chicago | Illinois.
The Northern Trust Company | Chicago | Illinois.
Cosmopolitan Bank and Trust | Chicago | Illinois.
State Bank of Chrisman | Chrisman | Illinois.
American Savings Bank of Danville | Danville | Illinois.
Republic Bank of Chicago | Darien | Illinois.
Citizens Community Bank of Decatur, IL | Decatur | Illinois.
The First National Bank of Dieterich | Dieterich | Illinois.
First State Bank of Dix | Dix | Illinois.
East Dubuque Savings Bank | East Dubuque | Illinois.
Citizens Bank | Edinburg | Illinois.
The Bank of Edwardsville | Edwardsville | Illinois.
C.P. Burnett & Sons, Bankers | Eldorado | Illinois.
First State Bank of Eldorado | Eldorado | Illinois.
Elgin State Bank | Elgin | Illinois.
Advantage National Bank | Elk Grove Village | Illinois.
First Bank & Trust | Evanston | Illinois.
Fairfield National Bank | Fairfield | Illinois.
Flora Savings Bank | Flora | Illinois.
The Farmers and Mechanics Bank | Galesburg | Illinois.
Glasford State Bank | Glasford | Illinois.
Heritage Community Bank | Glenwood | Illinois.
The Bank of Godfrey | Godfrey | Illinois.
Golden State Bank | Golden | Illinois.
Goodfield State Bank | Goodfield | Illinois.
Farmers National Bank of Griggsville | Griggsville | Illinois.
Clay County State Bank | Louisville | Illinois.
Peoples State Bank of Mansfield | Mansfield | Illinois.
HomeStar Bank | Manteno | Illinois.
First Federal Savings Bank of Mascoutah | Mascoutah | Illinois.
First Federal Savings & Loan Assn of Mattoon | Mattoon | Illinois.
Morton Community Bank | Morton | Illinois.
Mt. Morris Savings | Mt. Morris | Illinois.
The First National Bank of Mt. Pulaski | Mt. Pulaski | Illinois.
Oak Brook Bank | Oak Brook | Illinois.
First Community Bank, N.A | Olney | Illinois.
TrustBank | Olney | Illinois.
First Federal Savings Bank | Ottawa | Illinois.
First Bank and Trust, s.b | Paris | Illinois.
Corn Belt Bank & Trust Company | Pittsfield | Illinois.
Bank of Rantoul | Rantoul | Illinois.
The First National Bank & TC of Rochelle | Rochelle | Illinois.
Northwest Bank of Rockford | Rockford | Illinois.
Savanna-Thomson State Bank | Savanna | Illinois.
1st Community Bank | Sherrard | Illinois.
Independent Bankers' Bank | Springfield | Illinois.
Sterling Federal Bank | Sterling | Illinois.
Streator Home Building and Loan Association | Streator | Illinois.
First National Bank of Sullivan | Sullivan | Illinois.
Tempo Bank, A FSB | Trenton | Illinois.
Heritage Bank of Central Illinois | Trivoli | Illinois.
Iroquois Federal Savings and Loan Association | Watseka | Illinois.
Capstone Bank | Watseka | Illinois.
Bank of Waukegan | Waukegan | Illinois.
Wemple State Bank | Waverly | Illinois.
State Bank of Illinois | West Chicago | Illinois.
RidgeStone Bank | Brookfield | Wisconsin.
First Banking Center | Burlington | Wisconsin.
Cambridge State Bank | Cambridge | Wisconsin.
Sterling Bank | Cameron | Wisconsin.
Community Bank of Cameron | Cameron | Wisconsin.
Community Bank of Central Wisconsin | Colby | Wisconsin.
DMB Community Bank | DeForest | Wisconsin.
Community Bank Delavan | Delavan | Wisconsin.
Royal Credit Union | Eau Claire | Wisconsin.
Charter Bank Eau Claire | Eau Claire | Wisconsin.
Grafton State Bank | Grafton | Wisconsin.
Grand Marsh State Bank | Grand Marsh | Wisconsin.
Hartford Savings Bank | Hartford | Wisconsin.
Farmers State Bank | Hillsboro | Wisconsin.
Citizens State Bank | Hudson | Wisconsin.
F&M Bank Wisconsin | Kaukauna | Wisconsin.
The Bank of Kaukauna | Kaukauna | Wisconsin.
First National Bank in Manitowoc | Manitowoc | Wisconsin.
Investors Community Bank | Manitowoc | Wisconsin.
Farmers & Merchants Bank and Trust | Marinette | Wisconsin.
The Stephenson National Bank & Trust | Marinette | Wisconsin.
Marshfield Savings Bank | Marshfield | Wisconsin.
Mayville Savings Bank | Mayville | Wisconsin.
McFarland State Bank | McFarland | Wisconsin.
Lincoln County Bank | Merrill | Wisconsin.
North Milwaukee State Bank | Milwaukee | Wisconsin.
Monona State Bank | Monona | Wisconsin.
First National Bank of Niagara | Niagara | Wisconsin.
Oostburg State Bank | Oostburg | Wisconsin.
United Bank | Osseo | Wisconsin.
Pigeon Falls State Bank | Pigeon Falls | Wisconsin.
Port Washington State Bank | Port Washington | Wisconsin.
Bank of Poynette | Poynette | Wisconsin.
Peoples State Bank | Prairie du Chien | Wisconsin.
Bank of Prairie du Sac | Prairie du Sac | Wisconsin.
Community State Bank of Prentice | Prentice | Wisconsin.
Johnson Bank | Racine | Wisconsin.
Northwoods State Bank | Rhinelander | Wisconsin.
Community First Bank | Rosholt | Wisconsin.
First National Bank of Stoughton | Stoughton | Wisconsin.
Stratford State Bank | Stratford | Wisconsin.
Bank of Turtle Lake | Turtle Lake | Wisconsin.
First National Bank | Waupaca | Wisconsin.
Peoples State Bank | Wausau | Wisconsin.
State Bank of Withee | Withee | Wisconsin.
Federal Home Loan Bank of Des Moines—District 8
First National Bank | Akron | Iowa.
First Iowa State Bank | Albia | Iowa.
Iowa State Bank | Algona | Iowa.
Farmers State Bank | Algona | Iowa.
Ames Community Bank | Ames | Iowa.
Rolling Hills Bank & Trust | Atlantic | Iowa.
Benton County State Bank | Blairstown | Iowa.
First State Bank | Britt | Iowa.
Patriot Bank | Brooklyn | Iowa.
Farmers & Merchant Bank & Trust | Burlington | Iowa.
Carroll County State Bank | Carroll | Iowa.
Tri-County Bank & Trust | Cascade | Iowa.
Center Point Bank & Trust Company | Center Point | Iowa.
Iowa State Bank | Clarksville | Iowa.
Citizens First Bank | Clinton | Iowa.
Clinton National Bank | Clinton | Iowa.
Great Western Bank | Clive | Iowa.
First State Bank of Colfax | Colfax | Iowa.
Frontier Savings Bank | Council Bluffs | Iowa.
Northwest Bank and Trust Company | Davenport | Iowa.
Viking State Bank & Trust | Decorah | Iowa.
Defiance State Bank | Defiance | Iowa.
Bankers Trust Company, N.A | Des Moines | Iowa.
First Central State Bank | DeWitt | Iowa.
Du Trac Community Credit Union | Dubuque | Iowa.
American Trust and Savings Bank | Dubuque | Iowa.
Emmet County State Bank | Estherville | Iowa.
First Security State Bank | Evansdale | Iowa.
Manufacturers Bank & Trust Company | Forest City | Iowa.
Garnavillo Savings Bank | Garnavillo | Iowa.
George State Bank | George | Iowa.
Union State Bank | Greenfield | Iowa.
Heritage Bank, N.A | Holstein | Iowa.
United Bank of Iowa | Ida Grove | Iowa.
University of Iowa Community Credit Union | Iowa City | Iowa.
Iowa State Bank & Trust Company | Iowa City | Iowa.
Community Choice Credit Union | Johnston | Iowa.
Primebank | Le Mars | Iowa.
Luana Savings Bank | Luana | Iowa.
Central State Bank | Muscatine | Iowa.
Iowa State Bank | Orange City | Iowa.
MidwestOne Bank & Trust | Oskaloosa | Iowa.
Central Valley Bank | Ottumwa | Iowa.
Pioneer Bank | Sergeant Bluff | Iowa.
Bank Iowa | Shenandoah | Iowa.
Central Bank | Storm Lake | Iowa.
First State Bank | Stuart | Iowa.
American Savings Bank | Tripoli | Iowa.
West Bank | West Des Moines | Iowa.
Farmers Trust & Savings Bank | Williamsburg | Iowa.
Adrian State Bank | Adrian | Minnesota.
Security State Bank | Aitkin | Minnesota.
Annandale State Bank | Annandale | Minnesota.
First National Bank | Bagley | Minnesota.
First National Bank | Battle Lake | Minnesota.
State Bank of Belle Plaine | Belle Plaine | Minnesota.
Security Bank USA | Bemidji | Minnesota.
First Federal Bank | Bemidji | Minnesota.
Concorde Bank | Blomkest | Minnesota.
Bonanza Valley State Bank | Brooten | Minnesota.
CenBank | Buffalo Lake | Minnesota.
Root River State Bank | Chatfield | Minnesota.
Community Bank of the Red River Valley | East Grand Forks | Minnesota.
First National Bank of Elk River | Elk River | Minnesota.
The Bank of Elk River | Elk River | Minnesota.
Boundary Waters Bank | Ely | Minnesota.
Elysian Bank | Elysian | Minnesota.
Anchor Bank Farmington, N.A | Farmington | Minnesota.
Security State Bank of Fergus Falls | Fergus Falls | Minnesota.
Northview Bank | Finlayson | Minnesota.
State Bank of Gibbon | Gibbon | Minnesota.
Grand Marais State Bank | Grand Marais | Minnesota.
Grand Rapids State Bank | Grand Rapids | Minnesota.
State Bank of Hawley | Hawley | Minnesota.
First National Bank | Hawley | Minnesota.
1st National Bank of Herman | Herman | Minnesota.
Security State Bank of Hibbing | Hibbing | Minnesota.
Stearns Bank Holdingford National Association | Holdingford | Minnesota.
American Alliance Bank | Lake City | Minnesota.
Farmers State Bank of Madelia, Inc | Madelia | Minnesota.
Pioneer Bank | Mapleton | Minnesota.
State Bank of McGregor | McGregor | Minnesota.
Excel Bank Minnesota | Minneapolis | Minnesota.
Kanabec State Bank | Mora | Minnesota.
Alliance Bank | New Ulm | Minnesota.
Farmers and Merchants State Bk of NY Mills, Inc | New York Mills | Minnesota.
Valley Bank | North Mankato | Minnesota.
Woodlands National Bank | Onamia | Minnesota.
HomeTown Bank | Redwood Falls | Minnesota.
Eastwood Bank | Rochester | Minnesota.
First National Bank of the North | Sandstone | Minnesota.
First National Bank of Sauk Centre | Sauk Centre | Minnesota.
Stearns Bank N.A | St. Cloud | Minnesota.
The Lake Bank N.A | Two Harbors | Minnesota.
Stearns Bank of Upsala National Association | Upsala | Minnesota.
Mid-Central Federal Savings Bank | Wadena | Minnesota.
First National Bank of Waseca | Waseca | Minnesota.
Mainstreet Bank | Ashland | Missouri.
United Security Bank | Auxvasse | Missouri.
Bank 10 | Belton | Missouri.
Bank of Belton | Belton | Missouri.
County Bank | Brunswick | Missouri.
Farmers State Bank | Cameron | Missouri.
Hometown Bank, N.A | Carthage | Missouri.
First State Bank and Trust Company, Inc | Caruthersville | Missouri.
Citizens Bank of Charleston | Charleston | Missouri.
Citizens Bank and Trust Company | Chillicothe | Missouri.
Commerce Bank, N.A | Clayton | Missouri.
First National Bank of Clinton | Clinton | Missouri.
Community Bank of El Dorado Springs | El Dorado Springs | Missouri.
First Bank of Missouri | Gladstone | Missouri.
Bank of Holden | Holden | Missouri.
Hume Bank | Hume | Missouri.
Home Savings Bank | Jefferson City | Missouri.
First State Bank of Joplin | Joplin | Missouri.
NorthStar Bank, National Association | Kansas City | Missouri.
Bank of Lee's Summit | Lee's Summit | Missouri.
The Farmers Bank of Lincoln | Lincoln | Missouri.
First National Bank of Mt. Vernon | Mt. Vernon | Missouri.
Community Bank & Trust | Neosho | Missouri.
Citizens Bank | New Haven | Missouri.
Bank Star | Pacific | Missouri.
The Paris National Bank | Paris | Missouri.
Bank Star of the LeadBelt | Park Hills | Missouri.
Unico Bank | Potosi | Missouri.
Phelps County Bank | Rolla | Missouri.
Systematic Savings and Loan Association | Springfield | Missouri.
Farmers & Merchants Bank | St. Clair | Missouri.
Heartland Bank | St. Louis | Missouri.
Osage Valley Bank | Warsaw | Missouri.
McIntosh County Bank | Ashley | North Dakota.
First Security Bank-West | Beulah | North Dakota.
Dakota Western Bank | Bowman | North Dakota.
First State Bank | Buxton | North Dakota.
United Valley Bank | Cavalier | North Dakota.
Western State Bank | Devils Lake | North Dakota.
Union State Bank | Hazen | North Dakota.
Commercial Bank of Mott | Mott | North Dakota.
First National Bank & Trust Company of Williston | Williston | North Dakota.
Citizens State Bank | Arlington | South Dakota.
First State Bank | Armour | South Dakota.
Deuel County National Bank | Clear Lake | South Dakota.
Langford State Bank | Langford | South Dakota.
Sunrise Bank Dakota | Onida | South Dakota.
Federal Home Loan Bank of Dallas—District 9
The First National Bank | Ashdown | Arkansas.
First Western Bank | Booneville | Arkansas.
Signature Bank of Arkansas | Camden | Arkansas.
Chambers Bank | Danville | Arkansas.
Decatur State Bank | Decatur | Arkansas.
First State Bank of DeQueen | DeQueen | Arkansas.
Timberland Bank | El Dorado | Arkansas.
The Bank of Fayetteville, N.A | Fayetteville | Arkansas.
First Service Bank | Greenbrier | Arkansas.
Farmers Bank | Hamburg | Arkansas.
Heritage Bank | Jonesboro | Arkansas.
Eagle Bank & Trust | Little Rock | Arkansas.
First Security Bank of Mountain Home | Mountain Home | Arkansas.
Parkway Bank | Portland | Arkansas.
First State Bank | Russellville | Arkansas.
The First National Bank of Wynne | Wynne | Arkansas.
Peoples Bank of Louisiana | Amite | Louisiana.
Landmark Bank | Clinton | Louisiana.
Caldwell Bank and Trust Company | Columbia | Louisiana.
Resource Bank | Covington | Louisiana.
Tri-Parish Bank | Eunice | Louisiana.
Gibsland Bank & Trust Company | Gibsland | Louisiana.
Bank of Jena | Jena | Louisiana.
MidSouth Bank, N.A | Lafayette | Louisiana.
South Lafourche Bank & Trust Company | Larose | Louisiana.
Merchants & Farmers Bank & Trust Company | Leesville | Louisiana.
Omni Bank | Metairie | Louisiana.
Bank of Montgomery | Montgomery | Louisiana.
Community First Bank | New Iberia | Louisiana.
Gulf Coast Bank & Trust Company | New Orleans | Louisiana.
United Bank & Trust Company | New Orleans | Louisiana.
St. Landry Homestead Federal Savings Bank | Opelousas | Louisiana.
Community Bank | Raceland | Louisiana.
First American Bank and Trust Company | Vacherie | Louisiana.
First Federal Savings and Loan Association | Aberdeen | Mississippi.
Farmers and Merchants Bank | Baldwyn | Mississippi.
Copiah Bank, N.A | Hazlehurst | Mississippi.
Planters Bank & Trust Company | Indianola | Mississippi.
First American National Bank | Iuka | Mississippi.
Citizens Bank & Trust Company | Marks | Mississippi.
Pike County National Bank | McComb | Mississippi.
United Mississippi Bank | Natchez | Mississippi.
MS Telco Federal Credit Union | Pearl | Mississippi.
Western Bank Alamogordo | Alamogordo | New Mexico.
Bank of Albuquerque N.A | Albuquerque | New Mexico.
Western Bank | Artesia | New Mexico.
Western Commerce Bank | Carlsbad | New Mexico.
Citizens Bank | Farmington | New Mexico.
Los Alamos National Bank | Los Alamos | New Mexico.
Portales National Bank | Portales | New Mexico.
Citizens Bank, N.A | Abilene | Texas.
Anahuac National Bank | Anahuac | Texas.
First Bank | Azle | Texas.
First National Bank of Baird | Baird | Texas.
The First National Bank of Ballinger | Ballinger | Texas.
First National Bank Mid-Cities | Bedford | Texas.
Blanco National Bank | Blanco | Texas.
Legend Bank, N.A | Bowie | Texas.
The Commercial National Bank of Brady | Brady | Texas.
First State Bank | Bremond | Texas.
First National Bank in Bronte | Bronte | Texas.
First Bank | Burkburnett | Texas.
First State Bank & Trust Company | Carthage | Texas.
Corsicana National Bank & Trust | Corsicana | Texas.
Stockmens National Bank | Cotulla | Texas.
State Bank of Texas | Dallas | Texas.
Signature Bank | Dallas | Texas.
Gateway National Bank | Dallas | Texas.
Pavillion Bank | Dallas | Texas.
Bank of Texas, NA | Dallas | Texas.
Amistad Bank | Del Rio | Texas.
Northstar Bank of Texas | Denton | Texas.
First Bank & Trust East Texas | Diboll | Texas.
The First National Bank of Eagle Lake | Eagle Lake | Texas.
NewFirst National Bank | El Campo | Texas.
The First National Bank of Emory | Emory | Texas.
Enloe State Bank | Enloe | Texas.
Greater South Texas Bank, FSB | Falfurrias | Texas.
Pecos County State Bank | Fort Stockton | Texas.
Summit Bank, N.A | Fort Worth | Texas.
Security State Bank and Trust | Fredericksburg | Texas.
First State Bank | Gainesville | Texas.
Moody National Bank | Galveston | Texas.
First National Bank | George West | Texas.
First National Bank of Giddings | Giddings | Texas.
Mills County State Bank | Goldthwaite | Texas.
First State Bank | Graham | Texas.
Farmers State Bank | Groesbeck | Texas.
United Community Bank, N.A | Highland Village | Texas.
The Hondo National Bank | Hondo | Texas.
Preferred Bank, FSB | Houston | Texas.
Sterling Bank | Houston | Texas.
North Hudson Bank | Houston | Texas.
Huntington State Bank | Huntington | Texas.
State National Bank of Texas | Iowa Park | Texas.
TIB—The Independent BankersBank | Irving | Texas.
Jacksboro National Bank | Jacksboro | Texas.
Texas National Bank | Jacksonville | Texas.
Worth National Bank | Lake Worth | Texas.
South Texas National Bank of Laredo | Laredo | Texas.
First Liberty National Bank | Liberty | Texas.
Independent Bank | Manor | Texas.
Bank of Commerce | McLean | Texas.
USAA Federal Savings Bank | San Antonio | Texas.
Sanderson State Bank | Sanderson | Texas.
First Bank of Snook | Snook | Texas.
First National Bank of Trenton | Trenton | Texas.
National American Bank | Uvalde | Texas.
MyLubbockBank | Van Horn | Texas.
Central National Bank | Waco | Texas.
Wallis State Bank | Wallis | Texas.
Federal Home Loan Bank of Topeka—District 10
Colonial Bank | Aurora | Colorado.
FirstBank of Boulder | Boulder | Colorado.
FirstBank of Breckenridge | Breckenridge | Colorado.
Coiz Bank, N.A | Denver | Colorado.
First National Bank of Estes Park | Estes Park | Colorado.
Centennial Bank of the West | Fort Collins | Colorado.
FirstBank of Northern Colorado | Fort Collins | Colorado.
First National Bank—Colorado | Fowler | Colorado.
Union Colony Bank | Greeley | Colorado.
FirstBank of Tech Center | Greenwood Village | Colorado.
The Gunnison Bank and Trust Company | Gunnison | Colorado.
Red Rocks Federal Credit Union | Highlands Ranch | Colorado.
First State Bank | Idaho Springs | Colorado.
Valley State Bank | Lamar | Colorado.
Heritage Bank | Louisville | Colorado.
Equitable Savings and Loan Association | Sterling | Colorado.
FirstBank North | Westminster | Colorado.
State Bank of Wiley | Wiley | Colorado.
Stockgrowers State Bank of Ashland | Ashland | Kansas.
American Bank | Baxter Springs | Kansas.
Bendena State Bank | Bendena | Kansas.
Commercial State Bank | Bonner Springs | Kansas.
Citizens State Bank | Cheney | Kansas.
First National Bank of Clifton | Clifton | Kansas.
The Citizens National Bank | Concordia | Kansas.
The First National Bank | Cunningham | Kansas.
State Bank of Downs | Downs | Kansas.
Mid America Bank | Esbon | Kansas.
Garden City State Bank | Garden City | Kansas.
First Kansas Bank & Trust Company | Gardner | Kansas.
The First National Bank of Girard | Girard | Kansas.
First National Bank | Goodland | Kansas.
American State Bank & Trust Company, NA | Great Bend | Kansas.
The First State Bank of Healy | Healy | Kansas.
Morrill & Janes Bank and Trust Company | Hiawatha | Kansas.
Farmers and Merchants Bank of Hill City | Hill City | Kansas.
Hillsboro State Bank | Hillsboro | Kansas.
Hoisington National Bank | Hoisington | Kansas.
First National Bank of Holcomb | Holcomb | Kansas.
Denison State Bank | Holton | Kansas.
Howard State Bank | Howard | Kansas.
The Jamestown State Bank | Jamestown | Kansas.
Nekoma State Bank | La Crosse | Kansas.
First State Bank & Trust Company | Larned | Kansas.
Lawrence Bank | Lawrence | Kansas.
The State Bank of Lebo | Lebo | Kansas.
First National Bank | Liberal | Kansas.
Lyons Federal Savings | Lyons | Kansas.
Sunflower Bank, N.A | Salina | Kansas.
St. Marys State Bank | St. Marys | Kansas.
First National Bank of Clifton | St. Marys | Kansas.
Adams State Bank | Adams | Nebraska.
Heartland Community Bank | Bennet | Nebraska.
First National Bank of Chadron | Chadron | Nebraska.
Bank of Clarks | Clarks | Nebraska.
Citizens State Bank | Clearwater | Nebraska.
Farmers Bank of Cook | Cook | Nebraska.
Frontier Bank | Davenport | Nebraska.
Farmers State Bank | Dodge | Nebraska.
Filley Bank | Filley | Nebraska.
First National Bank of Gordon | Gordon | Nebraska.
Hastings State Bank | Hastings | Nebraska.
Security National Bank | Laurel | Nebraska.
American National Bank | Omaha | Nebraska.
Great Western Bank | Omaha | Nebraska.
Valley Bank and Trust Company | Scottsbluff | Nebraska.
Security First Bank | Sidney | Nebraska.
Iowa—Nebraska State Bank | South Sioux City | Nebraska.
Wahoo State Bank | Wahoo | Nebraska.
Citizens Bank & Trust Company | Ardmore | Oklahoma.
Peoples State Bank | Blair | Oklahoma
1st Bank & Trust | Broken Bow | Oklahoma.
Union Bank of Chandler | Chandler | Oklahoma.
First Bank of Chandler | Chandler | Oklahoma.
The First National Bank of Coweta, OK | Coweta | Oklahoma.
First National Bank | Davis | Oklahoma.
Edmond Bank and Trust | Edmond | Oklahoma.
Great Plains National Bank | Elk City | Oklahoma.
First Capital Bank | Guthrie | Oklahoma.
The Idabel National Bank | Idabel | Oklahoma.
Guarantee State Bank | Lawton | Oklahoma.
Bank of Locust Grove | Locust Grove | Oklahoma.
The Bank, National Association | McAlester | Oklahoma.
The Grant County Bank | Medford | Oklahoma.
First National Bank | Midwest City | Oklahoma.
All America Bank | Mustang | Oklahoma.
Frontier State Bank | Oklahoma City | Oklahoma.
Quail Creek Bank, N.A | Oklahoma City | Oklahoma.
Coopermark Bank | Oklahoma City | Oklahoma.
The Community State Bank | Poteau | Oklahoma.
The Exchange Bank | Skiatook | Oklahoma.
First National Bank of Stigler | Stigler | Oklahoma.
Stroud National Bank | Stroud | Oklahoma.
Bank of Oklahoma, NA | Tulsa | Oklahoma.
Tulsa National Bank | Tulsa | Oklahoma.
Waurika National Bank | Waurika | Oklahoma.
Federal Home Loan Bank of San Francisco—District 11
National Bank of Arizona | Tucson | Arizona.
Mid-State Bank & Trust | Arroyo Grande | California.
First California Bank | Camarillo | California.
Tri Counties Bank | Chico | California.
First Northern Bank of Dixon | Dixon | California.
Western State Bank | Duarte | California.
Community National Bank | Fallbrook | California.
First National Bank of North County | Lake San Marcos | California.
Manufacturers Bank | Los Angeles | California.
Cedars Bank | Los Angeles | California.
Hanmi Bank | Los Angeles | California.
World Savings Bank, F.S.B | Oakland | California.
Kaiperm Federal Credit Union | Oakland | California.
Citizens Business Bank | Ontario | California.
First Security Thrift Company | Orange | California.
LA Financial Federal Credit Union | Pasadena | California.
Bank of the Sierra | Porterville | California.
Plumas Bank | Quincy | California.
Inland Empire National Bank | Riverside | California.
American River Bank | Sacramento | California.
North Island Financial Credit Union | San Diego | California.
Mission Federal Credit Union | San Diego | California.
America California Bank | San Francisco | California.
National American Bank | San Francisco | California.
Citibank (West), FSB | San Francisco | California.
First National Bank of Nevada | Reno | Nevada.
First Republic Bank | Reno | Nevada.
Federal Home Loan Bank of Seattle—District 12
Wells Fargo Bank Alaska | Anchorage | Alaska.
Alaska USA Federal Credit Union | Anchorage | Alaska.
Alaska Pacific Bank | Juneau | Alaska.
First Hawaiian Bank | Honolulu | Hawaii.
City Bank | Honolulu | Hawaii.
Hawaii National Bank | Honolulu | Hawaii.
West Oahu Community Federal Credit Union | Kapolei | Hawaii.
Idaho Independent Bank | Coeur D'Alene | Idaho.
Bank of Idaho | Idaho Falls | Idaho.
Belt Valley Bank | Belt | Montana.
Flathead Bank | Bigfork | Montana.
First Boulder Valley Bank | Boulder | Montana.
First Citizens Bank | Columbia Falls | Montana.
First Madison Valley Bank | Ennis | Montana.
Heritage Bank | Great Falls | Montana.
Mountain West Bank, N.A | Helena | Montana.
Yellowstone Bank | Laurel | Montana.
Montana State Bank | Plentywood | Montana.
Valley Bank of Ronan | Ronan | Montana.
Citizens Bank | Corvallis | Oregon.
Oregon Community Credit Union | Eugene | Oregon.
Oregon Pacific Banking Company | Florence | Oregon.
Home Valley Bank | Grants Pass | Oregon.
Southern Oregon Federal Credit Union | Grants Pass | Oregon.
Town Center Bank | Portland | Oregon.
Williamette Valley Bank | Salem | Oregon.
Silver Falls Bank | Silverton | Oregon.
St. Helens Community Federal Credit Union | St. Helens | Oregon.
State Bank of Southern Utah | Cedar City | Utah.
America West Bank | Layton | Utah.
Far West Bank | Provo | Utah.
Central Bank | Provo | Utah.
Liberty Bank | Salt Lake City | Utah.
First Mutual Bank | Bellevue | Washington.
Foundation Bank | Bellevue | Washington.
Bank NorthWest | Bellingham | Washington.
Westsound Bank | Bremerton | Washington.
Coastal Community Bank | Everett | Washington.
Frontier Bank | Everett | Washington.
ShoreBank Pacific | Ilwaco | Washington.
Issaquah Bank | Issaquah | Washington.
Twin City Bank | Longview | Washington.
City Bank | Lynnwood | Washington.
Golf Savings Bank | Mountlake Terrace | Washington.
Redmond National Bank | Redmond | Washington.
School Employees Credit Union of Washington | Seattle | Washington.
United Savings and Loan Bank | Seattle | Washington.
The State National Bank of Garfield | Spokane | Washington.
Washington Trust Bank | Spokane | Washington.
Numerica Credit Union | Spokane | Washington.
Harborstone Credit Union | Tacoma | Washington.
Columbia State Bank | Tacoma | Washington.
Pierce Commercial Bank | Tacoma | Washington.
Westside Community Bank | University Place | Washington.
Baker Boyer National Bank | Walla Walla | Washington.
Mid State Bank | Waterville | Washington.
First National Bank of Buffalo | Buffalo | Wyoming.
Wyoming Bank & Trust | Cheyenne | Wyoming.
The Jackson State Bank & Trust | Jackson | Wyoming.

II. Public Comments

To encourage the submission of public comments on the community support performance of Bank members, on or before January 27, 2006, each Bank will notify its Advisory Council and nonprofit housing developers, community groups, and other interested parties in its district of the members selected for community support review in the 2004-05 eighth quarter review cycle. 12 CFR 944.2(b)(2)(ii). In reviewing a member for community support compliance, the Finance Board will consider any public comments it has received concerning the member. 12 CFR 944.2(d). To ensure consideration by the Finance Board, comments concerning the community support performance of members selected for the 2004-05 eighth quarter review cycle must be delivered to the Finance Board on or before the February 27, 2006 deadline for submission of Community Support Statements.

John P. Kennedy,
General Counsel.

[FR Doc. 06-57 Filed 1-12-06; 8:45 am]

BILLING CODE 6725-01-P